DEPARTMENT OF LABOR

Employment and Training Administration

[TA-W-40,201]

Asia Perez, New York, NY; Notice of Termination of Investigation

Pursuant to section 221 of the Trade Act of 1974, an investigation was initiated on October 15, 2001 in response to a worker petition, which was filed by the company on behalf of workers as Asia Perez, New York, New York.

The petitioner has requested that the petition be withdrawn. Consequently, further investigation in this case would serve no purpose, and the investigation has been terminated.

Signed in Washington, DC, the 7th day of February 2002.
Linda G. Poole,
Certifying Officer, Division of Trade Adjustment Assistance.

[FR Doc. 02-4730 Filed 2-27-02; 8:45 am]

BILLING CODE 4510-30-M